FEDERAL COMMUNICATIONS COMMISSION

47 CFR Part 73

[DA 08-2276; MB Docket No. 07-182; RM-11393; MB Docket No. 07-194; RM-11397]

Radio Broadcasting Services; Antlers, OK; Hico, TX, and Hugo, OK

AGENCY: Federal Communications Commission.

ACTION: Final rule.

SUMMARY: The Audio Division, at the request of Liberman Broadcasting of Dallas License LLC, allots FM Channel 293A in lieu of vacant FM Channel 285A at Hico, Texas. Channel 293A can be allotted at Hico, Texas, in compliance with the Commission's minimum distance separation requirements with a site restriction of 5.5 km (3.4 miles) south of Hico at the following reference coordinates: 31-56-00 North Latitude and 98-02-00 West Longitude. The Audio Division further amends the reference coordinates of vacant FM Channel 285A at Broken Bow, Oklahoma, to reflect a site restrict of 12.8 km (7.9 miles) northeast of Broken Bow at the following reference coordinates: 34-06-21 North Latitude and 94-38-09 West Longitude.

DATES: Effective November 24, 2008.

ADDRESSES: Secretary, Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket Nos. 07-182 and 07-194, adopted October 8, 2008, and released October 10, 2008. The full text of this Commission decision is available for inspection and copying during normal business hours in the FCC Reference Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Texas, is amended by removing Channel 285A and adding Channel 293A at Hico.

Federal Communications Commission.
John A. Karousos,
Assistant Chief, Audio Division, Media Bureau.

[FR Doc. E8-25726 Filed 10-27-08; 8:45 am]

BILLING CODE 6712-01-P